DEPARTMENT OF JUSTICE

Antitrust Division

Notice Pursuant to the National Cooperative Research and Production Act—Global Climate and Energy Project

Notice is hereby given that, on August 17, 2015, pursuant to Section 6(a) of the National Cooperative Research and Production Act of 1993, 15 U.S.C. 4301 et seq. (“the Act”), Global Climate and Energy Project (“GCEP”) has filed written notifications simultaneously with the Attorney General and the Federal Trade Commission disclosing changes in its membership, nature and objective. The notifications were filed for the purpose of extending the Act's provisions limiting the recovery of antitrust plaintiffs to actual damages under specified circumstances. Specifically, General Electric Company, Fairfield, CT, and as of September 1, 2015, E.I. du Pont de Nemours and Company, Wilmington, DE, have withdrawn as parties to this venture. The change in its nature and objectives is that the members of GCEP have amended the agreement between them to provide for fixed Sponsor participation fees, to establish comprehensive procedures for the disclosure and treatment of non-project patent rights, and to extend the termination of GCEP from August 31, 2016, to August 31, 2018.

No other changes have been made in either the membership or planned activity of the group research project. Membership in this group research project remains open, and GCEP intends to file additional written notifications disclosing all changes in membership.

On March 12, 2003, GCEP filed its original notification pursuant to Section 6(a) of the Act. The Department of Justice published a notice in the Federal Register pursuant to Section 6(b) of the Act on April 4, 2003 (68 FR 16552).

The last notification was filed with the Department on June 10, 2014. A notice was published in the Federal Register pursuant to Section 6(b) of the Act on July 24, 2014 (79 FR 43069).

Patricia A. Brink,
Director of Civil Enforcement, Antitrust Division.

[FR Doc. 2015-24604 Filed 9-28-15; 8:45 am]

BILLING CODE P